FEDERAL HOUSING FINANCE BOARD

[No. 2002-N-8]

Notice of Public Hearing on Federal Home Loan Bank Cost of Funds

AGENCY: Federal Housing Finance Board.

ACTION: Notice of public hearing.

SUMMARY: Notice is hereby given that the Federal Housing Finance Board (Finance Board) will hold the following public hearing:

Time and Date of Hearing: Immediately following 10 a.m. Board of Directors Meeting, Thursday, September 12, 2002.

Place: Board Room, Second Floor, Federal Housing Finance Board, 1777 F Street, NW., Washington, DC 20006.

Agenda: The purpose of this hearing is to provide an opportunity for the Finance Board to gather information on the appropriate benchmarks for measuring FHLBank System performance in borrowing money and to gather information on FHLBank System plans and strategies for cost effective borrowing.

Public testimony at the hearing will be limited to presentations by Finance Board staff, representatives from the FHLBanks and the Board of Directors of the Office of Finance. Testimony prepared by the witnesses for public delivery at the hearing should be submitted in writing to the Finance Board by 12 p.m., Tuesday, September 10, 2002.

Other individuals or organizations interested in commenting on the Cost of Funds may do so by submitting their comments in writing to the Finance Board prior to September 12, 2002.

Status: This hearing will be open to the public.

ADDRESSES: Send testimony and comments to Elaine L. Baker, Secretary to the Board, by electronic mail to bakere@fhfb.gov, or by regular mail to the Federal Housing Finance Board, 1777 F Street, NW., Washington, DC 20006. Comments will be available for public inspection at this address.

FOR FURTHER INFORMATION CONTACT: Elaine L. Baker, Secretary to the Board, 202-408-2837 or Thomas D. Casey, Counsel to the Chairman, 202-408-2957.

Dated: September 5, 2002.
Arnold Intrater,
General Counsel.

[FR Doc. 02-23073 Filed 9-6-02; 12:52 pm]

BILLING CODE 6725-01-P